ENVIRONMENTAL PROTECTION AGENCY

[FRL-7152-7]

Proposed CERCLA Section 122(h) Administrative Agreement for Recovery of Past Costs for the Carroll & Dubies Site, Town of Deer Park, Orange County, NY

AGENCY: Environmental Protection Agency.

ACTION: Notice; request for public comment.

SUMMARY: In accordance with section 122(i) of the Comprehensive Environmental Response, Compensation, and Liability Act of 1980, as amended (“CERCLA”), 42 U.S.C. 9622(i), notice is hereby given by the U.S. Environmental Protection Agency (“EPA”), Region II, of a proposed administrative agreement pursuant to section 122(h) of CERCLA, 42 U.S.C. 9622(h), for recovery of past response costs concerning the Carroll & Dubies Site (“Site”) located in the Town of Deer Park, Orange County, New York. The settlement requires the settling parties, Kolmar Laboratories, Inc. and Wichhen Products, Inc. to pay $75,000 in reimbursement of EPA's past response costs at the Site. The settlement includes a covenant not to sue the settling parties pursuant to section 107(a) of CERCLA, 42 U.S.C. 9607(a), in exchange for their payment of monies. For thirty (30) days following the date of publication of this notice, EPA will receive written comments relating to the settlement. EPA will consider all comments received and may modify or withdraw its consent to the settlement if comments received disclose facts or considerations that indicate that the proposed settlement is inappropriate, improper or inadequate. EPA's response to any comments received will be available for public inspection at EPA Region II, 290 Broadway, New York, New York 10007-1866.

DATES: Comments must be submitted on or before April 4, 2002.

ADDRESSES: The proposed settlement is available for public inspection at EPA Region II offices at 290 Broadway, New York, New York 10007-1866. Comments should reference the Carroll & Dubies Site located in the Town of Deer Park, Orange County, New York, Index No. CERCLA-02-2002-2009. To request a copy of the proposed settlement agreement, please contact the individual identified below.

FOR FURTHER INFORMATION CONTACT: Sharon E. Kivowitz, Assistant Regional Counsel, New York/Caribbean Superfund Branch, Office of Regional Counsel, U.S. Environmental Protection Agency, 17th Floor, 290 Broadway, New York, New York 10007-1866. Telephone: 212-637-3183.

Dated: February 14, 2002.
William J. Muszynski,
Deputy Regional Administrator, Region 2.

[FR Doc. 02-5188 Filed 3-4-02; 8:45 am]

BILLING CODE 6560-50-P